SMALL BUSINESS ADMINISTRATION

User Input to the Procurement Executive Council Socio-Economic Subcommittee

AGENCY: Small Business Administration, Interagency Committee on Subcontract Reporting.

ACTION: Notice of public meeting.

SUMMARY: The Subcontract Reporting Subcommittee of the Socio-Economic Committee of the Procurement Executive Council will hold an Industry Forum on December 16, 2002, at 10 a.m. to 1 p.m. hosted by the Small Business Administration at 409 Third Street, SW., Washington, DC 20416 in the Eisenhower Conference Room. The purpose of the forum is to demonstrate an existing government-owned internet-based electronic reporting system, describe anticipated enhancements necessary to implement government-wide electronic subcontract reporting, and obtain comments from potential industry users. Potential users are other than small businesses required to submit subcontract reports pursuant to Federal Acquisition Regulation 52.219-9. Space is limited so seating is on a first-come basis. Those planning to attend should register at: SpecialMeeting@sba.gov.

DETAILS: December 16, 2002; Small Business Administration, 10 a.m. to 1 p.m. in the Eisenhower Conference Room. The objective of this meeting is to provide an opportunity for industry users to provide input on plans for implementing a government-wide electronic subcontract reporting system.

DATES: The meeting will be held at 10 a.m. to 1 p.m. on December 16, 2002.

ADDRESSES: The meeting will be held in the Eisenhower Conference Room at the headquarters of the Small Business Administration, 409 Third Street, SW., Washington, DC 20416.

TO REGISTER SEND E-MAIL TO: SpecialMeeting@sba.gov. For further information contact: Ms. Sylvia Boulware, Small Business Administration, 409 Third Street, SW., Washington, DC 20416; telephone number (202) 619-0477 or Fax: (202) 481-5735; or Ms. Janas Jackson, same address, telephone number (202) 205-7493; Fax: (202) 481-2390.

SUPPLEMENTARY INFORMATION:

History

In 2002, the Procurement Executive Council's Socio-Economic Committee established the Subcontract Reporting Subcommittee to explore government-wide electronic subcontract reporting as part of the E-Government initiative. The Subcommittee is chaired by the Deputy Director of the Department of Navy's Office of Small and Disadvantaged Business Utilization and includes stakeholders from the Small Business Administration, Department of Defense, Department of Energy (DOE), Department of Health and Human Services, Department of State, and General Services Administration.

The DOE demonstrated its internet-based electronic subcontract reporting system to the Subcommittee. The Subcommittee is considering recommending adoption of the Department of Energy's system with enhancements for government-wide use to satisfy mandatory subcontract reporting requirements by other than small businesses.

This meeting is the industry forum intended to observe a demonstration of the current electronic reporting system, receive a description of planned enhancements, and provide comments regarding the merit and feasibility of adopting such a system for government-wide subcontract reporting.

Meeting Procedures

(a) The meeting will be informal in nature and will be conducted by representatives of the Subcontract Reporting Subcommittee.

(b) The meeting will be open to all persons on a space-available basis. Every effort was made to provide a meeting site with sufficient seating capacity for the expected participation. There will be neither admission fee nor other charge to attend and participate.

(c) DOE personnel present will conduct a demonstration of the current system. Any person will be allowed to ask questions during the demonstration and DOE personnel will clarify any capability of the current system that is not clear.

(d) Other Subcommittee personnel will present a briefing on the specific system enhancements desired. Any person will be allowed to ask questions during the presentation and Subcommittee personnel will clarify any part of the presentation that is not clear.

(e) Any person present may give feedback on the merit and feasibility of the desired enhancements presented. Feedback on the proposed product will be captured through discussion between Subcommittee personnel and any persons attending the meeting. The meeting will not be formally recorded. However, informal tape recordings may be made of the presentations to ensure that each respondent's comments are noted accurately.

(f) An official verbatim transcript or minutes of the informal meeting will not be made. However, a list of the attendees and a digest of discussions during the meeting will be produced. Any person attending may receive a copy of the written information upon request to the information contact, above.

(g) Every reasonable effort will be made to hear each person's feedback consistent with a reasonable closing time for the meeting. Written feedback may also be submitted to Subcommittee personnel for up to 14 days after the close of the meeting.

Agenda

(a) Opening Remarks and Discussion of Meeting Procedures.

(b) Demonstration of DOE Subcontract Reporting System.

(c) Briefing on Desired System Enhancements.

(d) Request for User Input.

(e) Closing Comments.

Linda G. Williams,
Associate Administrator for Government Contracting, Small Business Administration.

[FR Doc. 02-30302 Filed 11-27-02; 8:45 am]

BILLING CODE 8025-01-P